DEPARTMENT OF TRANSPORTATION

National Highway Traffic Safety Administration

[Docket No. NHTSA-2014-0106; Notice 1]

Oreion Motors, LLC, Receipt of Petition for Decision of Inconsequential Noncompliance

AGENCY: National Highway Traffic Safety Administration (NHTSA), Department of Transportation (DOT).

ACTION: Receipt of petition.

SUMMARY: Oreion Motors, LLC (Oreion) has determined that certain 2011-2013 Oreion Reeper low speed vehicles, do not fully comply with paragraph S5.(b)(10) of Federal Motor Vehicle Safety Standard (FMVSS) No. 500 which requires installation of seat belts that conform to FMVSS No. 209, Seat Belt Assemblies. Oreion has filed an appropriate report dated August 13, 2014, pursuant to 49 CFR part 573, Defect and Noncompliance Responsibility and Reports.

DATES: The closing date for comments on the petition is December 22, 2014.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: Logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. Oreion's Petition: Pursuant to 49 U.S.C. 30118(d) and 30120(h) (see implementing rule at 49 CFR part 556), Oreion submitted a petition for an exemption from the notification and remedy requirements of 49 U.S.C. Chapter 301 on the basis that this noncompliance is inconsequential to motor vehicle safety.

This notice of receipt of Oreion's petition is published under 49 U.S.C. 30118 and 30120 and does not represent any agency decision or other exercise of judgment concerning the merits of the petition.

II. Low Speed Vehicles Involved: Affected are approximately 526 2011-2013 Oreion Reeper low speed vehicles originally manufactured with seatbelts manufactured by Changzhou Dongchen.

III. Noncompliance: Oreion explains that the noncompliance is that the seatbelts installed in the subject vehicles do not fully comply with the requirements of paragraph S5.(b)(10) of FMVSS No. 500 because the year that the seatbelts were manufactured is not included on the seatbelts as specified in paragraph S4.1(j) of FMVSS No. 209.

V. Rule Text: Paragraph S5.(b) of FMVSS No. 500 requires in pertinent part:

(b) Each low-speed vehicle shall be equipped with: . . . (10) A Type 1 or Type 2 seat belt assembly conforming to Sec. 571.209 of this part, Federal Motor Vehicle Safety Standard No. 209, Seat belt assemblies, installed at each designated seating position.

Paragraph S4.1(j) of FMVSS No. 209 requires in pertinent part:

S4.1(j) Marking. Each seat belt assembly shall be permanently and legibly marked or labeled with year of manufacture . . .

V. Summary of Oreion's Analyses: Oreion believes that the subject noncompliance is inconsequential to motor vehicle safety because they believe that the lack of the year of manufacture on the seat belts has no effect on the operational safety of the seat belts installed in the subject noncompliant vehicles.

Oreion stated its belief that the seat belts in the subject vehicles have functioned as deigned during normal use. They contend that this is supported by their observation that no vehicle owner has brought their vehicle back to a dealership for seat belt related repairs.

Oreion stated its awareness that the year date stamp may be used with the seat belt model number to identify seat belt assemblies recalled by the seat belt manufacturer. In the event of a safety related recall by the seat belt manufacturer, Oreion will cooperate with the seat belt manufacturer to identify the vehicle owners of the vehicles containing affected seat belts without the need for the year stamp on the label. Oreion believes that the model number and the build date of the vehicle will be sufficient to accomplish this task.

In summation, Oreion believes that the described noncompliance of the subject low speed vehicle's seat belt assemblies is inconsequential to motor vehicle safety, and that its petition, to exempt Oreion from providing recall notification of noncompliance as required by 49 U.S.C. 30118 and remedying the recall noncompliance as required by 49 U.S.C. 30120, should be granted.

NHTSA notes that the statutory provisions (49 U.S.C. 30118(d) and 30120(h)) that permit manufacturers to file petitions for a determination of inconsequentiality allows NHTSA to exempt manufacturers only from the duties found in sections 30118 and 30120, respectively, to notify owners, purchasers, and dealers of a defect or noncompliance and to remedy the defect or noncompliance. Therefore, any decision on this petition only applies to the subject low speed vehicles that Oreion no longer controlled at the time it determined that the noncompliance existed. However, any decision on this petition does not relieve vehicle distributors and dealers of the prohibitions on the sale, offer for sale, or introduction or delivery for introduction into interstate commerce of the noncompliant low speed vehicles under their control after Oreion notified them that the subject noncompliance existed.

Authority: 49 U.S.C. 30118, 30120: delegations of authority at 49 CFR 1.95 and 501.8.

Jeffrey M. Giuseppe,
Acting Director, Office of Vehicle Safety Compliance.

[FR Doc. 2014-27582 Filed 11-20-14; 8:45 am]

BILLING CODE 4910-59-P